DEPARTMENT OF AGRICULTURE

Forest Service

Central Montana Resource Advisory Committee

AGENCY: Forest Service, USDA.

ACTION: Notice of meeting.

SUMMARY: The Central Montana Resource Advisory Committee will meet in Stanford, Montana. The committee is meeting as authorized under the Secure Rural Schools and Community Self Determination Act (Pub. L. 110-343) and in compliance with the Federal Advisory Committee Act. The purpose is to hold the first meeting of the newly formed committee.

DATES: The meeting will be held April 29, 2011 and will begin at 7 p.m.

ADDRESSES: The meeting will be held at the Judith Ranger District, located at 109 Central Avenue, Stanford, MT. Written comments should be sent to Ron Wiseman, Lewis and Clark National Forest, 109 Central Avenue, Stanford, Montana 59479. Comments may also be sent via e-mail to rwiseman@fs.fed.us.

All comments, including names and addresses when provided, are placed in the record and are available for public inspection and copying. The public may inspect comments received at Lewis and Clark National Forest, 109 Central Avenue, Stanford, Montana 59479. Visitors are encouraged to call ahead to (406) 566-2292 to facilitate entry into the building.

FOR FURTHER INFORMATION CONTACT: Ron Wiseman, Designated Federal Official, USDA, Lewis and Clark National Forest, 109 Central Avenue, Stanford, MT 59479; (406) 566-2292; E-mail rwiseman@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members and Forest Service personnel; (2) Selection of a chairperson by the committee members; (3) Receive materials explaining the process for considering and recommending Title II projects; and (4) Public Comment. Persons who wish to bring related matters to the attention of the Committee may file written statements with the Committee staff before or after the meeting.

Dated: April 7, 2011.
Ronald B. Wiseman,
Designated Federal Officer.

[FR Doc. 2011-9006 Filed 4-12-11; 8:45 am]

BILLING CODE 3410-11-P